DEPARTMENT OF TRANSPORTATION

Pipeline and Hazardous Materials Safety Administration

[Docket No. PHMSA-04-19856]

Pipeline Safety: Senior Executive Signature and Certification of Integrity Management Program Performance Reports

AGENCY: Pipeline and Hazardous Materials Safety Administration (PHMSA), DOT.

ACTION: Notice; Issuance of advisory bulletin.

SUMMARY: On December 29, 2006, the Pipeline Inspection, Protection, Enforcement and Safety Act was signed into law. The law, known as the PIPES Act, includes a provision requiring the senior executive officers of pipeline operating companies to certify annual and semiannual pipeline integrity management program performance reports. This advisory provides information to assist pipeline operators with certifying future submissions of annual and semiannual pipeline integrity management program performance reports.

FOR FURTHER INFORMATION CONTACT: Zach Barrett at (405) 954-5559 or by e-mail at zach.barrett@dot.gov; or Wayne Lemoi at (404) 832-1160, or by e-mail at wayne.lemoi@dot.gov.

SUPPLEMENTARY INFORMATION:

I. Background

Section 16 of the PIPES Act requires PHMSA to establish procedures for a pipeline operator's senior executive officer to certify annual and semiannual pipeline integrity management program performance reports with their signature. Specifically, the law requires each report to include a signed statement certifying that the senior executive officer has reviewed the report and to the best of the senior executive officer's knowledge and belief, this report is true and complete. PHMSA is modifying its electronic filing to assist pipeline operators with complying with section 16 of the PIPES Act electronically. In addition, this advisory informs operators not filing electronically how to comply with section 16.

II. Advisory Bulletin ADB-07-01

To: Operators of Natural Gas and Hazardous Liquid Pipelines.

Subject: Senior Executive Officer Signature and Certification of Integrity Management Program Performance Reports.

Purpose: To inform operators of natural gas and hazardous liquid pipelines on how to meet the requirement for a senior executive officer's signature and certification on pipeline integrity management program (IMP) performance reports.

Advisory: Section 16 of the PIPES Act requires pipeline operators to have a senior executive officer of the company sign and certify annual and semiannual IMP performance reports. By signing, the senior executive officer is certifying that the senior executive officer has reviewed the report and to the best of the senior executive officer's knowledge and belief, this report is true and complete. To assist pipeline operators with complying with the section 16 requirement, we are providing the following procedures for those operators of natural gas pipelines and hazardous liquid pipelines required to file IMP reports. Pipeline operators should follow these procedures for future submissions of annual and semiannual IMP performance reports.

Gas Integrity Management Program Performance Measures Reports

Operators of gas transmission pipelines are required by 49 CFR 192.945 to submit IMP performance measures semiannually to PHMSA. Operators are encouraged to submit the IMP reports using the electronic form available on PHMSA's Web site at http://phmsa.dot.gov.

To minimize future transcription and handling and to lessen the chance for errors, PHMSA is modifying the gas IMP electronic form to reflect the new legal requirement for a senior executive officer's certification and signature. Operators should enter the name and title of the senior executive officer certifying the report in the appropriate blanks on the form and in the signature block on the form. Operators should keep in mind that entering the senior executive officer's name onto the electronic form is equivalent to a paper submission and has the same legal authenticity and requirements as a paper document.

In lieu of electronic filing, operators can mail or fax the reports to PHMSA. If submitting by mail or fax, the name and title of the senior executive officer certifying the report should be entered in the appropriate blanks on the form. The senior executive officer should certify the report by signing this form in the signature block.

Hazardous Liquid Integrity Management Program Annual Reports

PHMSA requires hazardous liquid pipeline operators to submit annual reports providing information about their pipeline infrastructure and their integrity management program. Operators are required to submit these reports annually and by June 15 for the previous calendar year in accordance with 49 CFR 195.49.

Operators of hazardous liquid pipelines are encouraged to use the Online Data Entry System (ODES) available at the PHMSA Web site located at http://phmsa.dot.gov to submit annual reports. To minimize future transcription and handling and to lessen the chance for errors, we are modifying the ODES electronic form to reflect the new legal requirement for a senior executive officer certification and signature. Operators should enter the name and title of the senior executive officer certifying the report in the appropriate blanks on the form and in the signature block on the form. Operators should keep in mind that entering the senior executive officer's name onto the electronic form is equivalent to a paper submission and has the same legal authenticity and requirements as a paper document.

Operators may also submit the annual report to PHMSA by mail or fax in accordance with 49 CFR 195.58. If submitting by mail or fax, the name and title of the senior executive officer certifying the report should be entered in the appropriate blanks on the form. The senior executive officer should certify the report by signing the form in the signature block.

Authority: 49 U.S.C. chapter 601 and 49 CFR 1.53.

Issued in Washington, DC on April 13, 2007.
Jeffrey D. Wiese,
Acting Associate Administrator for Pipeline Safety.

[FR Doc. E7-7602 Filed 4-20-07; 8:45 am]

BILLING CODE 4910-60-P